DEPARTMENT OF DEFENSE

Office of the Secretary

[Transmittal No. 19-03]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 19-03, Policy Justification, and Sensitive of Technology.

Dated: January 21, 2026.
Stephanie J. Bost,
Alternate OSD Federal Register Liaison Officer, Department of Defense.

BILLING CODE 6001-FR-P

BILLING CODE 6001-FR-C

Transmittal No. 19-03

Notice of Proposed Issuance of Letter of Offer Pursuant to Section 36(b)(1) of the Arms Export Control Act, as amended

(i) Prospective Purchaser: Republic of Türkiye

(ii) Total Estimated Value:

Major Defense Equipment * | $198 million
Other | $ 27 million
TOTAL | $225 million

Funding Source: National Funds

(iii) Description and Quantity or Quantities of Articles or Services under Consideration for Purchase:

Major Defense Equipment (MDE):

Fifty-three (53) AIM-120C-8 Advanced Medium Range Air-to-Air Missiles (AMRAAM)

Six (6) AIM-120C-8 AMRAAM guidance sections

Non-Major Defense Equipment:

The following non-MDE items will be included: AMRAAM containers and support equipment; Common Munitions Built-in-Test (BIT) Reprogramming Equipment (CMBRE); spare parts, consumables and accessories, repair and return support; weapons system support and software; classified software delivery and support; classified publications and technical documentation; transportation support; studies and surveys; United States (U.S.) Government and contractor engineering, technical, and logistics support services; and other related elements of logistics and program support.

(iv) Military Department: Air Force (TK-D-YAK)

(v) Prior Related Cases, if any: TK-D-YAE, TK-D-YAC

(vi) Sales Commission, Fee, etc., Paid, Offered, or Agreed to be Paid: None known at this time

(vii) Sensitivity of Technology Contained in the Defense Article or Defense Services Proposed to be Sold: See Attached Annex

(viii) Date Report Delivered to Congress: May 14, 2025

* as defined in Section 47(6) of the Arms Export Control Act.

POLICY JUSTIFICATION

Türkiye—AIM-120C-8 Advanced Medium-Range Air-to-Air Missiles

The Republic of Türkiye has requested to buy fifty-three (53) AIM-120C-8 Advanced Medium Range Air-to-Air Missiles (AMRAAM); and six (6) AIM-120C-8 AMRAAM guidance sections. The following non-MDE items will be included: AMRAAM containers and support equipment; Common Munitions Built-in-Test (BIT) Reprogramming Equipment (CMBRE); spare parts, consumables and accessories, repair and return support; weapons system support and software; classified software delivery and support; classified publications and technical documentation; transportation support; studies and surveys; U.S. Government and contractor engineering, technical, and logistics support services; and other related elements of logistics and program support. The estimated total cost is $225 million.

This proposed sale will support the foreign policy goals and national security of the U.S. by improving the security of a NATO Ally that continues to be a force for political and economic stability in Europe.

This proposed sale will provide Türkiye with a critical air defense capability to assist in defending its homeland and U.S. personnel stationed there. Türkiye will have no difficulty absorbing these articles and services into its armed forces.

The proposed sale of this equipment and support will not alter the basic military balance in the region.

The principal contractor will be RTX Corporation, located in Tucson, AZ. At this time, the U.S. Government is not aware of any offset agreement proposed in connection with this potential sale. Any offset agreement will be defined in negotiations between the purchaser and the contractor.

Implementation of this proposed sale will not require the assignment of any additional U.S. Government or contractor representatives to Türkiye.

There will be no adverse impact on U.S. defense readiness as a result of this proposed sale.

Transmittal No. 19-03

Notice of Proposed Issuance of Letter of Offer Pursuant to Section 36(b)(1) of the Arms Export Control Act

Annex

Item No. vii

(vii) Sensitivity of Technology:

1. The AIM-120C-8 AMRAAM is a supersonic, air launched, aerial intercept guided missile featuring digital technology and microminiature solid-state electronics. AMRAAM capabilities to include look-down/shoot-down, multiple launches against multiple targets, resistance to electronic countermeasures, and interception of high- and low-flying and maneuvering targets.

2. The Common Munitions Built-In Test (BIT) Reprogramming Equipment (CMBRE) is used to interface with weapon systems to initiate and report BIT results and upload and download flight software. CMBRE supports multiple munitions platforms with a range of applications that perform preflight checks, periodic maintenance checks, loading of Operational Flight Program data, loading of munitions mission planning data, loading of Global Positioning System cryptographic keys, and declassification of munitions memory.

3. The highest level of classification of defense articles, components, and services included in this potential sale is SECRET.

4. If a technologically advanced adversary were to obtain knowledge of the specific hardware and software elements, the information could be used to develop countermeasures that might reduce system effectiveness or be used in the development of a system with similar or advanced capabilities.

5. A determination has been made that Türkiye can provide substantially the same degree of protection for the sensitive technology being released as the U.S. Government. This sale is necessary in furtherance of the U.S. foreign policy and national security objectives outlined in the Policy Justification.

6. All defense articles and services listed in this transmittal have been authorized for release and export to the Republic of Türkiye.

[FR Doc. 2026-01356 Filed 1-23-26; 8:45 am]

BILLING CODE 6001-FR-P